DEPARTMENT OF HOMELAND SECURITY

Coast Guard

46 CFR Parts 1, 10, 11, 12, 13, 14, and 15

[Docket No. USCG-2014-0016]

Policy Implementing the Standards of Training, Certification, and Watchkeeping

AGENCY: Coast Guard, DHS.

ACTION: Notice of availability.

SUMMARY: The Coast Guard announces the availability of five Navigation and Vessel Inspection Circulars (NVICs), which are the third set of a series of NVICs to implement the Final Rule that aligned Coast Guard regulations with amendments to the International Convention on Standards of Training, Certification and Watchkeeping for Seafarers and made changes to national endorsements. These NVICs will provide guidance to mariners concerning new regulations governing merchant mariner certificates and endorsements to Merchant Mariner Credentials (MMC).

DATES: These NVICs are effective on October 24, 2014.

FOR FURTHER INFORMATION CONTACT: If you have questions about this notice, call or email Luke B. Harden, Mariner Credentialing Program Policy Division (CG-CVC-4), U.S. Coast Guard; telephone 202-372-2357, or MMCPolicy@uscg.mil. If you have questions on viewing material in the docket, call Cheryl Collins, Program Manager, Docket Operations, telephone 202-366-9826.

SUPPLEMENTARY INFORMATION:

Viewing Documents

The five NVICs listed below are available and can be viewed by going to http://www.uscg.mil/nmc and clicking on “STCW Rule Information,” then click on “STCW Rule NVICs.”

Discussion

On December 24, 2014, the Coast Guard published a Final Rule in the Federal Register (78 FR 77796) amending Title 46, Code of Federal Regulations, to implement the International Convention on Standards of Training, Certification and Watchkeeping for Seafarers, as amended 1978 (STCW Convention), including the 2010 amendments to the STCW Convention, and the Seafarers' Training, Certification and Watchkeeping Code. The final rule also made changes to reorganize, clarify, and update regulations for credentialing merchant mariners. In the future, the Coast Guard will issue additional NVICs to provide further guidance on the implementation of the new regulations regarding endorsements to Merchant Mariner Credentials (MMCs). The five NVICs listed below represent the third phase of this effort:

1. Guidelines for Qualification for High-Speed Craft Type-Rating Endorsements (NVIC 20-14). This NVIC describes policy for merchant mariners to qualify for and renew endorsements for service on vessels designed and operated in accordance with the International Code of Safety for High-Speed Craft, 2000.

2. Guidelines on Qualification for Endorsements for Vessel Security Officers, Vessel Personnel with Designated Security Duties, and Security Awareness (NVIC 21-14). This NVIC describes policy for merchant mariners to qualify for and renew STCW endorsements for Vessel Security Officers, Vessel Personnel with Designated Security Duties, and for Security Awareness.

3. Guidelines on Qualification for STCW Endorsements for Officers and Ratings on Oil, Chemical, and Liquefied Gas Tank Vessels (NVIC 22-14). This NVIC describes policy for merchant mariners to qualify for and renew STCW endorsements for service on tank vessels.

4. Guidelines on Qualification for STCW Endorsements as Electro-Technical Officer on Vessels Powered by Main Propulsion Machinery of 750 kW/1,000 HP or More (NVIC 23-14). This NVIC describes policy for merchant mariners to qualify for and renew endorsements as Electro-Technical Officer on vessels powered by main propulsion machinery of 750 kW/1,000 HP or more.

5. Guidelines on Qualification for STCW Endorsements as Electro-Technical Rating on Vessels Powered by Main Propulsion Machinery of 750 kW/1,000 HP or More(NVIC 24-14). This NVIC describes policy for merchant mariners to qualify for and renew endorsements as Electro-Technical Rating on vessels powered by main propulsion machinery of 750 kW/1,000 HP or more.

Authority

This notice is issued under the authority of 5 U.S.C. 552(a).

Dated: October 10, 2014.
J.C. Burton,
Captain, U.S. Coast Guard, Director, Inspection & Compliance.

[FR Doc. 2014-24869 Filed 10-23-14; 8:45 am]

BILLING CODE 9110-04-P